DEPARTMENT OF ENERGY

Federal Energy Regulatory Commission

Combined Notice of Filings

Take notice that the Commission has received the following Natural Gas Pipeline Rate and Refund Report filings:

Filings Instituting Proceedings

Docket Numbers: PR26-20-000.

Applicants: Rocky Mountain Natural Gas LLC.

Description: § 284.123 Rate Filing: Rocky Mountain Natural Gas SOC Reflecting RAM change to be effective 1/1/2026.

Filed Date: 12/10/25.

Accession Number: 20251210-5265.

Comment Date: 5 p.m. ET 12/31/25.

Docket Numbers: RP26-285-000.

Applicants: Rockies Express Pipeline LLC.

Description: § 4(d) Rate Filing: REX 2025-12-10 Negotiated Rate Agreement Amendment to be effective 1/1/2026.

Filed Date: 12/10/25.

Accession Number: 20251210-5255.

Comment Date: 5 p.m. ET 12/22/25.

Docket Numbers: RP26-286-000.

Applicants: PPG Shawville Pipeline, LLC.

Description: § 4(d) Rate Filing: Normal filing 2026 to be effective 1/1/2026.

Filed Date: 12/10/25.

Accession Number: 20251210-5264.

Comment Date: 5 p.m. ET 12/22/25.

Docket Numbers: RP26-287-000.

Applicants: Guardian Pipeline, L.L.C.

Description: § 4(d) Rate Filing: Negotiated Rate PAL Agreement Updates and Administrative Change to be effective 12/10/2025.

Filed Date: 12/11/25.

Accession Number: 20251211-5003.

Comment Date: 5 p.m. ET 12/23/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number. eFiling is encouraged. More detailed information relating to filing requirements, interventions, protests, service, and qualifying facilities filings can be found at: http://www.ferc.gov/docs-filing/efiling/filing-req.pdf. For other information, call (866) 208-3676 (toll free). For TTY, call (202) 502-8659. For public inquiries and assistance with making filings such as interventions, comments, or requests for rehearing, contact the Office of Public Participation at (202) 502-6595 or OPP@ferc.gov.

Dated: December 11, 2025.
Carlos D. Clay,
Deputy Secretary.

[FR Doc. 2025-22941 Filed 12-15-25; 8:45 am]

BILLING CODE 6717-01-P